DEPARTMENT OF THE TREASURY

Agency Information Collection Activities; Submission for OMB Review; Comment Request; Employer's Annual Tax Return for Agricultural Employees

AGENCY: Departmental Offices, Department of the Treasury.

ACTION: Notice.

SUMMARY: The Department of the Treasury will submit the following information collection request to the Office of Management and Budget (OMB) for review and clearance in accordance with the Paperwork Reduction Act of 1995, on or after the date of publication of this notice. The public is invited to submit comments on these requests.

DATES: Comments must be received on or before December 8, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

Title: Employer's Annual Tax Return for Agricultural Employees.

OMB Control Number: 1545-0035.

Type of Review: Reinstatement without change of a currently approved collection.

Description: Agricultural employers must prepare and file Form 943 and Form 943-PR (Puerto Rico only) to report and pay FICA taxes and income tax voluntarily withheld (Form 943 only). Agricultural employees may attach Forms 943-A and 943A-PR to Forms 943 and 943-PR to show their tax liabilities for semiweekly periods. The information is used to verify that the correct tax has been paid. Form 943 (Schedule R) allows (1) an agent appointed by an employer or payer or (2) a customer who enters into a contract that meets the requirements under 7705(e)(2) or (3) a client who enters into a service agreement described under Regulations section 31.3504-2(b)(2) with a Certified Professional Employer Organization, to allocate information reported on Form 943 to each client.

Form Numbers: IRS Form 943, IRS Form 943-PR, IRS Form 943-A, IRS Form 943A-PR, IRS Form 943X, IRS Form 943-X(PR), and IRS Form 943—Schedule R.

Affected Public: Businesses or other for-profit institutions.

Estimated Number of Respondents: 965,698.

Frequency of Response: Annually.

Estimated Total Number of Annual Responses: 965,698.

Estimated Time per Response: 14 hours 1 minute.

Estimated Total Annual Burden Hours: 13,533,994 hours.

Authority: 44 U.S.C. 3501 et seq.

Dated: November 3, 2021.
Molly Stasko,
Treasury PRA Clearance Officer.

[FR Doc. 2021-24379 Filed 11-5-21; 8:45 am]

BILLING CODE 4810-25-P